DEPARTMENT OF HEALTH AND HUMAN SERVICES

Centers for Disease Control and Prevention

[Program Announcement 02129]

Public Health Disease Surveillance Initiative; Notice of Award of Funds

A. Purpose

The Centers for Disease Control and Prevention (CDC) announces the award of fiscal year (FY) 2002 funds for a grant program for the Delaware Department of Health and Social Services for Public Health Disease Surveillance Initiative.

The purpose of this program is to build an integrated data management system that will allow the sharing of core data elements needed by the State of Delaware to effectively fulfill its responsibilities for the surveillance and reporting of communicable diseases. This program addresses the “Healthy People 2010” focus area of Immunization and Infectious Diseases.

B. Eligible Applicant

Assistance is provided only to the Delaware Department of Health and Social Services. No other applications were solicited. Eligibility was limited to the Delaware Department of Health and Social Services because fiscal year 2002 federal appropriations specially directs the CDC to award funds to continue the development of the Delaware Electronic Reporting System (DEERS) to track diseases.

C. Funds

Approximately $791,190 is being awarded in FY 2002. The award will begin on or about August 20, 2002 and will be made for a 12-month budget period within a project period of one year.

D. Where To Obtain Additional Information

For business management technical assistance, contact: Van A. King, Grants Management Specialist, Procurement and Grants Office, Centers for Disease Control and Prevention, 2920 Brandywine Road, Room 3000, Atlanta, GA 30341-4146. Telephone number 770-488-2751. e-mail address VKing@cdc.gov.

For program technical assistance, contact: Michael R. Donnelly, Deputy, Integrated Health Information Systems, Office of the Director, Centers for Disease Control and Prevention, Mail Stop D-68, Atlanta, GA 30333. Telephone number 404-639-7820. e-mail address MRDonnelly@cdc.gov.

Dated: August 22, 2002.
Sandra R. Manning,
CGFM, Director, Procurement and Grants Office, Centers for Disease Control and Prevention.

[FR Doc. 02-22167 Filed 8-29-02; 8:45 am]

BILLING CODE 4163-18-P